DEPARTMENT OF ENERGY

Federal Energy Regulatory Commission

[Project No. 2645-176]

Erie Boulevard Hydropower, L.P.; Notice of Application Tendered for Filing With the Commission and Establishing Procedural Schedule for Licensing and Deadline for Submission of Final Amendments

Take notice that the following hydroelectric application has been filed with the Commission and is available for public inspection.

a. Type of Application: New Major License.

b. Project No.: 2645-176.

c. Date Filed: July 30, 2024.

d. Applicant: Erie Boulevard Hydropower, L.P. (Erie).

e. Name of Project: Beaver River Hydroelectric Project (project).

f. Location: On the Beaver River in Lewis and Herkimer Counties, New York.

g. Filed Pursuant to: Federal Power Act, 16 U.S.C. 791(a)-825(r).

h. Applicant Contact: Mr. Steven P. Murphy, Director—U.S. Licensing, Brookfield Renewable, 33 West 1st Street South, Fulton, NY 13069; telephone at (315) 598-6130; email at Stephen.Murphy@brookfieldrenewable.com.

i. FERC Contact: Nicholas Ettema, Project Coordinator, Great Lakes Branch, Division of Hydropower Licensing; telephone at (312) 596-4447; email at nicholas.ettema@ferc.gov.

j. The application is not ready for environmental analysis at this time.

k. Project Description: The project consists of the following eight developments from upstream to downstream: the 8-megawatt (MW) Moshier Development, the 5.81-MW Eagle Development, the 12.145-MW Soft Maple Development, the 2.8-MW Effley Development, the 1.5-MW Elmer Development, the 4.645-MW Taylorville Development, the 2.21-MW Belfort Development, and the 4.8-MW High Falls Development.

Project Facilities

Moshier Development

The Moshier Development consists of an approximately 1,104-foot-long dam (Moshier Dam) that includes the following sections: (1) an approximately 181-foot-long earthen dike; (2) an approximately 654-foot-long earthen embankment with a 32-foot-long gatehouse and a 28-foot-long intake structure with two sluice gates and two trashracks with 1-inch clear bar spacing; and (3) a 269-foot-long concrete section that includes a sluice gate, a 200-foot-long ogee spillway with 2-foot-high flashboards that have a crest elevation of 1,641.48 feet North American Vertical Datum of 1988 (NAVD 88), and a non-overflow section. The dam creates an impoundment that has a surface area of 340 acres at 1,641.48 feet NAVD 88.

From the impoundment, water flows through the intake structure to an approximately 1.9-mile-long penstock with a surge tank. The penstock bifurcates into two approximately 70-foot-long penstocks that each conveys water to a 4-MW vertical Francis turbine-generator, for a total installed capacity of 8 MW. The turbine-generators are located in a 70-foot-wide, 34-foot-long powerhouse. Water is discharged from the turbines to a 30-foot-long tailrace. The development creates an approximately 2.1-mile-long bypassed reach of the Beaver River.

The generators are connected to the regional electric grid by two 20-foot-long, 6.6-kilovolt (kV) overhead generator lead lines and a 6.6/115-kV step-up transformer.

The project recreation facilities include: (1) a hand-carry boat portage route with an impoundment take-out site, a 2-mile-long portage trail, and a put-in site approximately 780 feet downstream of the powerhouse; (2) a parking area for 10 vehicles adjacent to the portage put-in site; (3) a parking area for 6 vehicles adjacent to the dam; and (4) a boat put-in site approximately 600 feet downstream of the dam for whitewater flow release events.

The minimum and maximum hydraulic capacities of the powerhouse are 100 and 660 cubic feet per second (cfs), respectively. The average annual energy production of the development from 2010 through 2020, was 38,761 megawatt-hours (MWh).

Eagle Development

The Eagle Development consists of a concrete dam (Eagle Dam) that includes the following sections: (1) a 62.7-foot-long headgate structure that includes four stoplog gates and four trashracks with 1-inch clear bar spacing; (2) a non-overflow section; (3) an approximately 10-foot-long section with a sluice gate; (4) a 183-foot-long ogee spillway with 1-foot-high flashboards that have a crest elevation of 1,426.65 feet NAVD 88; and (5) a 29-foot-long section with two low-level gates. The dam creates an impoundment that has a surface area of 138 acres at 1,426.65 feet NAVD 88.

From the impoundment, water flows through the headgate structure to a 540-foot-long forebay canal with a 150-foot-long non-overflow section and a stoplog gate. From the forebay canal, water enters an intake structure that includes three sluice gates, a trashrack with 1.25-inch clear bar spacing, and a 32.7-foot-long gatehouse. From the intake structure, water enters a 2,725-foot-long penstock that conveys water to three 1.35-MW horizontal Francis turbine-generators and a 1.79-MW horizontal Francis turbine-generator, for a total installed capacity of 5.81 MW. The turbine-generators are located in a 62.7-foot-wide, 86.7-foot-long powerhouse. Water is discharged from the turbines to an approximately 300-foot-long tailrace. The development creates an approximately 3,854-foot-long bypassed reach of the Beaver River.

The generators are connected to the regional electric grid by a 290-foot-long, 2.3-kV overhead generator lead lines and a 2.3/115-kV step-up transformer.

The project recreation facilities include: (1) a hand-carry boat portage route with an impoundment take-out site, a 0.7-mile-long portage trail, and a put-in site downstream of the powerhouse; (2) a fishing access trail to the bypassed reach; and (3) a boat put-in site downstream of the dam for whitewater flow release events.

The minimum and maximum hydraulic capacities of the powerhouse are 85 and 571 cfs, respectively. The average annual energy production of the development from 2010 through 2020, was 32,298 MWh.

Soft Maple Development

The Soft Maple Development includes: (1) a dam with (a) an 81.5-foot-long intake structure with six sluice gates and trashracks with 1-inch clear bar spacing; and (b) a gatehouse; (2) a 720-foot-long earthen dam (Terminal Dam); (3) a 173-foot-long concrete dam with (a) a 144-foot-long ogee spillway with 1.5-foot-high flashboards that have a crest elevation of 1,289.9 feet NAVD 88; and (b) two sluice gates; (4) a 910-foot-long earthen dam (Diversion Dam) that includes a 10-foot-long intake structure with a butterfly gate and trashrack; and (5) five earthen dikes. The dams and dikes create an impoundment that has a surface area of 400 acres at 1,289.9 feet NAVD 88.

From the impoundment, water flows through the 81.5-foot-long intake structure to two 530-foot-long penstocks that provide water to a 6.045-MW and a 6.1-MW vertical Francis turbine-generator, for a total installed capacity of 12.145 MW. The turbine-generators are located in an 82-foot-wide, 50-foot-long powerhouse. Water is discharged from the turbines to a tailrace. The development creates an approximately 8,340-foot-long bypassed reach of the Beaver River.

From the impoundment, water also flows through the intake structure of the Diversion Dam to a 316.4-foot-long diversion tunnel and a 263.9-foot-long pipe that conveys minimum flows to the bypassed reach.

The generators are connected to the regional electric grid by two 1,300-foot-long, 6.6-kV overhead generator lead lines and a 6.6/115-kV step-up transformer.

The project recreation facilities include: (1) a hand-carry boat portage route with an impoundment take-out site, a portage trail, and a put-in site approximately 400-feet downstream of the powerhouse, with a parking area; (2) a campground adjacent to the impoundment, with 10 tent sites, an access road, a parking area, a car-top boat launch, and four restrooms; (3) seven primitive campsites on islands within the impoundment; (4) a picnic area; and (5) a 150-foot-long trail to a scenic overlook with a view of the bypassed reach and a parking area for four vehicles.

The minimum and maximum hydraulic capacities of the powerhouse are 320 and 1,720 cfs, respectively. The average annual energy production of the development from 2010 through 2020, was 39,899 MWh.

Effley Development

The Effley Development consists of a dam (Effley Dam) that includes the following sections: (1) a 35.75-foot-long south concrete intake structure with a sluice gate and a trashrack with 1-inch clear bar spacing; (2) a 38.5-foot-long north concrete intake structure with three sluice gates and a trashrack with 1-inch clear bar spacing; (3) a 647-foot-long concrete section that includes a south non-overflow section, a 69.7-foot-long south ogee spillway with a crest elevation of 1,162.95 feet NAVD 88, a section with a stoplog gate and two low-level sluice gates, a 360.5-foot-long north ogee spillway with a crest elevation of 1,162.95 feet NAVD 88 and a gate, and a north non-overflow section; and (4) a 629-foot-long earthen embankment. The dam creates an impoundment that has a surface area of 340 acres at 1,162.95 feet NAVD 88.

From the impoundment, water enters through the south intake structure to a 148-foot-long penstock that provides water to a 1.44-MW vertical Francis turbine-generator located in a 44-feet-long, 42.5-feet-wide south concrete and masonry powerhouse. Water enters through the north intake structure to: (1) an 87-foot-long penstock that provides water to a 0.56-MW horizontal Francis turbine-generator; and (2) two 87-foot-long penstocks that each provides water to a 0.4-MW horizontal Francis turbine-generator, located in a 53-feet-long, 58-feet-wide north concrete and masonry powerhouse. Overall, the development has an installed capacity of 2.8 MW. Water is discharged from the powerhouses to a tailrace. The development creates an approximately 580-foot-long bypassed reach of the Beaver River.

The generators are connected to the regional electric grid by two 45-foot-long, 2.3-kV overhead generator lead lines and a 2.3/115-kV step-up transformer.

The project recreation facilities include a hand-carry boat portage route that includes an impoundment take-out site, a 600-foot-long portage trail, and a put-in site downstream of the dam.

The minimum and maximum hydraulic capacities of the north powerhouse are 135 and 470 cfs, respectively. The minimum and maximum hydraulic capacities of the south powerhouse are 200 and 450 cfs, respectively. The average annual energy production of the development from 2010 through 2020, was 15,997 MWh.

Elmer Development

The Elmer Development consists of a 326.5-foot-long concrete dam (Elmer Dam) that includes the following sections: (1) a 39-foot-long intake structure with four sluice gates and two trashracks with 1-inch clear bar spacing; (2) an 18.25-foot-long non-overflow section; (3) a 122-foot-long west ogee spillway with a crest elevation of 1,107.96 NAVD 88; (4) a 25-foot-long section with a gate; (5) a 113.75-foot-long east ogee spillway with a crest elevation of 1,107.96 NAVD 88; and (6) an 8.5-foot-long non-overflow section. The dam creates an impoundment that has a surface area of 34 acres at 1,107.96 feet NAVD 88.

From the impoundment, water flows through the intake structure to two 0.75-MW vertical Francis turbine-generators located in a 33.7-feet-long, 78.3-feet-wide powerhouse, for a total installed capacity of 1.5 MW. Water is discharged from the turbines to an approximately 110-foot-long tailrace. The development creates an approximately 260-foot-long bypassed reach of the Beaver River.

The generators are connected to the regional electric grid by a 55-foot-long, 2.3-kV overhead generator lead line and a 2.3/23-kV step-up transformer.

The project recreation facilities include a hand-carry boat portage route with an impoundment take-out site, a 400-foot-long portage trail, and a put-in site downstream of the dam.

The minimum and maximum hydraulic capacities of the powerhouse are 80 and 700 cfs, respectively. The average annual energy production of the development from 2010 through 2020, was 11,264 MWh.

Taylorville Development

The Taylorville Development consists of a concrete dam (Taylorville Dam) that includes the following sections: (1) a south dam section that includes a 348-foot-long ogee spillway with 0.8-foot-high flashboards that have a crest elevation of 1,070.46 feet NAVD 88; and (2) a north dam section that includes: (a) a 29.1-foot-long section with two sluice gates; (b) a 119.5-foot-long ogee spillway with 0.8-foot-high flashboards that have a crest elevation of 1,070.46 feet NAVD 88; (c) a section with a sluice gate; and (d) a non-overflow section that includes a 33-foot-long intake structure with three sluice gates and a trashrack with 1-inch clear bar spacing. The dam creates an impoundment that has a surface area of 170 acres at 1,070.46 feet NAVD 88.

From the impoundment, water flows through the intake structure to a 2,725-foot-long penstock with a surge tank. The penstock conveys water to two 1.1-MW, one 1.245-MW, and one 1.2-MW horizontal Francis turbine-generator, for a total installed capacity of 4.645 MW. The turbine-generators are located in a 92.7-foot-long, 62.5-foot-wide powerhouse. Water is discharged from the turbines to a tailrace. The development creates an approximately 4,540-foot-long bypassed reach of the Beaver River.

The generators are connected to the regional electric grid by a 55-foot-long, 2.3-kV overhead generator lead line, a 2.3/23-kV step-up transformer, and a 200-foot-long, 23-kV transmission line.

The project recreation facilities include: (1) a hand-carry boat portage route that includes an impoundment access site, a 2-mile-long portage trail, and a put-in site downstream of the powerhouse; (2) a walking trail that begins near the impoundment access site; (3) a picnic area near the boat take-out site with picnic tables, grills, and a parking area for 10 vehicles; and (4) a picnic area near the boat put-in site.

The minimum and maximum hydraulic capacities of the powerhouse are 100 and 720 cfs, respectively. The average annual energy production of the development from 2010 through 2020, was 24,204 MWh.

Belfort Development

The Belfort Development consists of a dam (Belfort Dam) that includes the following sections: (1) an approximately 206-foot-long section that includes a 161.1-foot-long ogee spillway with 2-foot-high flashboards that have a crest elevation of 965.64 feet NAVD 88; a surface-level gate; and a low-level gate; (2) an approximately 250-foot-long non-overflow section; (3) an approximately 88-foot-long non-overflow c section; and (4) a 60-foot-long intake structure with two sluice gates and two trashracks with 1-inch clear bar spacing. The dam creates an impoundment that has a surface area of 50 acres at 965.64 feet NAVD 88.

From the impoundment, water flows through the intake structure to a 52-foot-long penstock that provides water to a 0.4-MW horizontal Francis turbine-generator and a 0.64-MW double horizontal Francis turbine-generator, and a 52-foot-long penstock that provides water to a 1.17-MW double Francis turbine-generator, for a total installed capacity of 2.21 MW. The turbine-generators are located in a 39-foot-long, 78-foot-wide powerhouse. Water is discharged from the turbines to a 400-foot-long tailrace. The development creates an approximately 900-foot-long bypassed reach of the Beaver River.

The generators are connected to the regional electric grid by a 110-foot-long, 2.3-kV overhead generator lead line and a 2.3/23-kV step-up transformer.

The project recreation facilities include: (1) a hand-carry boat portage route with an impoundment take-out site, an 800-foot-long portage trail, and a put-in site downstream of the powerhouse; and (2) a fishing platform adjacent to the dam that provides anglers with access to the impoundment.

The minimum and maximum hydraulic capacities of the powerhouse are 80 and 800 cfs, respectively. The average annual energy production of the development from 2010 through 2020, was 11,267 MWh.

High Falls Development

The High Falls Development includes: (1) a concrete dam (High Falls Dam) that includes the following sections: (a) a non-overflow section that includes a 64.25-foot-long intake structure with four sluice gates, four trashracks with 1-inch clear bar spacing, and a gatehouse; (b) a 204-foot-long ogee spillway with a crest elevation of 914.82 NAVD 88; (c) a 49.42-foot-long section with a non-operational stoplog gate and a low-level outlet gate; (d) a 445.9-foot-long ogee spillway with a crest elevation of 914.82 NAVD 88 and a gate; and (e) a 294.2-foot-long non-overflow section; and (2) two 100-foot-long dikes. The dam and dikes create an impoundment that has a surface area of 145 acres at the spillway crest elevation of 914.82 feet NAVD 88.

From the impoundment, water flows through the intake structure to a 605-foot-long penstock that provides water to three 1.6-MW vertical Francis turbine-generators located in a 34.4-foot-long, 99-foot-wide powerhouse, for a total installed capacity of 4.8 MW. Water is discharged from the turbines to a 15.5-foot-long tailrace. The development creates an approximately 1,108-foot-long bypassed reach of the Beaver River.

The generators are connected to the regional electric grid by two 75-foot-long, 2.3-kV underground generator lead lines and a 2.3/23-kV step-up transformer.

The project recreation facilities include: (1) a hand-carry boat portage route that includes an impoundment take-out site, a portage trail, and a put-in site downstream of the powerhouse; (2) five campsites on the islands in the impoundment; and (3) a picnic area with picnic tables and grills, and an associated parking area for about 10 vehicles.

The minimum and maximum hydraulic capacities of the powerhouse are 150 and 900 cfs, respectively. The average annual energy production of the development from 2010 through 2020, was 30,877 MWh.

Project Operation

The current license requires the implementation of a Streamflow and Headpond Elevation Monitoring Plan that includes minimum and maximum impoundment elevation limits for each of the developments, and the following impoundment fluctuation limits: (1) for the Moshier, Soft Maple, and Effley Developments, 1 foot from May 1 through June 30, and 1.5 feet from July 1 through April 30 under normal conditions; and 3 feet during low flow conditions; (2) 1 foot at the Eagle, Elmer, Taylorville, and Belfort Developments; and (3) for the High Falls Development, 1.5 feet under normal conditions and 3 feet during low flow conditions. The Streamflow and Headpond Elevation Monitoring Plan requires the following minimum flows or inflow, whichever is less, to the bypassed reaches: (1) 45 cfs at the Moshier and Eagle Developments; (2) 35 cfs at the Soft Maple Development; (3) 20 cfs at the Effley, Elmer, and Belfort Developments; (4) 60 cfs at the Taylorville Development; and (5) 30 cfs at the High Falls Development. The current license also requires a minimum base flow of 250 cfs downstream of the project. The current license requires the implementation of a Low Flow Augmentation Plan that includes withdrawing water from the impoundments when inflow is less than the minimum base flow.

Erie releases minimum bypassed reach and fish conveyance flows through the following structures: (1) at the Moshier Development, Erie uses the sluice gate in the concrete section of the dam, a wooden flume, and a 3-foot-deep plunge pool approximately 80 feet downstream of the sluice gate; (2) at the Eagle Development, Erie uses the sluice gate and a 53-foot-long timber flume; (3) at the Soft Maple Development, Erie uses the two sluice gates in the 173-foot-long dam; (4) at the Effley Development, Erie uses the gate in the north spillway and a plunge pool immediately downstream of the gate; (5) at the Elmer Development, Erie uses the gate in the 25-foot-long section of the dam; (6) at the Taylorville Development, Erie uses the sluice gates in the north dam section and a plunge pool immediately downstream of the sluice gates; (7) at the Belfort Development, Erie uses the surface-level gate; and (8) at the High Falls Development, Erie uses the gate at the 445.9-foot-long spillway. Erie also uses the 263.9-foot-long pipe that extends from the diversion tunnel of the Soft Maple Development, and the low-level outlet gate of the High Falls Development to release minimum flows.

The current license also requires the implementation of a Recreation Plan that requires operation and maintenance of the project recreation facilities and the following annual whitewater releases: (1) one 4-hour release of 400 cfs from the Moshier Dam; (2) five 4-hour releases of 200 cfs from the Taylorville Dam; and (3) five 4-hour releases of 200 cfs from the Eagle Dam.

The current license also requires the implementation of a Cultural Resources Management Plan to protect historic properties.

The average annual energy production of the project (i.e., Moshier, Eagle, Soft Maple, Effley, Elmer, Taylorville, Belfort, and High Falls Developments) from 2010 through 2020, was 204,567 megawatt-hours.

Erie is not proposing to add any new project facilities. However, Erie proposes to revise the project boundary around the impoundments to follow the normal maximum impoundment elevations and add/remove land that is occupied by or adjacent to project facilities, which would result in a net increase of land and water in the project boundary from 2,394 acres under the current license to 2,414.1 acres under the proposed license.

Erie proposes to continue operating the project as required under the current license and generally described above, including the requirements for minimum flows, impoundment levels, and the Low Flow Augmentation Plan. In addition, Erie proposes to develop a new minimum flow and fish conveyance plan, streamflow and headpond monitoring plan, and historic properties management plan. Erie also proposes to: (1) maintain a fishing access area at the Moshier Development as a project recreation facility; (2) install trail markers along the trail that is on the shoreline of the bypassed reach of the Taylorville Development; (3) and continue to provide annual whitewater releases at the Eagle, Moshier, and Taylorville Developments.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2645). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Procedural Schedule: The application will be processed according to the following preliminary schedule. Revisions to the schedule will be made as appropriate.

Issue Deficiency Letter and Request Additional Information—August 2024

Notice of Acceptance—January 2025

o. Final amendments to the application must be filed with the Commission no later than 30 days from the issuance date of the notice of ready for environmental analysis.

Dated: August 13, 2024.
Debbie-Anne A. Reese,
Acting Secretary.

[FR Doc. 2024-18527 Filed 8-16-24; 8:45 am]

BILLING CODE 6717-01-P